DEPARTMENT OF HOUSING AND URBAN DEVELOPMENT

[Docket No. FR-5832-N-07]

60-Day Notice of Proposed Information Collection: Continuum of Care Homeless Assistance Grant Application

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 13, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Diane Schmutzler, SNAPS Specialist, CPD, Department of Housing and Urban Development, 451 7th Street SW., Washington, DC 20410; email Diane Schmutzler at Diane.M.Schmutzler@hud.gov or telephone 202-402-4385. This is not a toll-free number. Persons with hearing or speech impairments may access this number through TTY by calling the toll-free Federal Relay Service at (800) 877-8339. Copies of available documents submitted to OMB may be obtained from Ms. Schmutzler.

SUPPLEMENTARY INFORMATION: This notice informs the public that HUD is seeking approval from OMB for the information collection described in section A.

A. Overview of Information Collection

Title of Information Collection: Continuum of Care Homeless Assistance Grant Application.

OMB Approval Number: 2506-0112.

Type of Request: Revision of a currently approved collection.

Form Number: CoC Consolidated Application (all parts), SF 424, HUD SF 424 SUPP, HUD-2991, HUD-92041, HUD-27300, HUD-2880, SF-LLL, HUD-40090-4, HUD-50070.

Description of the need for the information and proposed use: The regulatory authority to collect this information is contained in 24 CFR part 578, and is authorized by the McKinney-Vento Act, as amended by section 896 The Homeless Emergency Assistance and Rapid Transition to Housing (HEARTH) Act of 2009 (42 U.S.C. 11371 et seq.) which states that “The Secretary shall award grants, on a competitive basis, and using the selection criteria described in section 427, to carry out eligible activities under this subtitle for projects that meet the program requirements under section 426, either by directly awarding funds to project sponsors or by awarding funds to unified funding agencies.” (section 422(a))

The CoC Homeless Assistance Grant Application (OMB 2506-0112) is the second phase of the information collection process to be used in HUD's CoC Program Competition authorized by the HEARTH Act. During this phase, HUD collects information from the state and local Continuum of Cares (CoCs) through the CoC Consolidated Application which is comprised of the CoC Application, and the Priority Listing which includes the individual project recipients' project applications.

The CoC Consolidated Grant Application is necessary for the selection of proposals submitted to HUD (by State and local governments, public housing authorities, and nonprofit organization) for the grant funds available through the Continuum of Care Program, in order to make decisions for the awarding CoC Program funds.

Respondents (i.e. affected public): States, local governments, private nonprofit organizations, public housing authorities, and community mental health associations that are public nonprofit organizations.

Estimated Number of Respondents: 4,577 applicants.

Estimated Number of Responses: 8,869 applications.

Frequency of Response: 1 response per year.

Average Hours per Response: 22.75 hours.

Total Estimated Burdens: 201,779.87 hours.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: August 3, 2015.
Harriet Tregoning,
Principal Deputy Assistant Secretary for Community Planning and Development.

[FR Doc. 2015-19713 Filed 8-10-15; 8:45 am]

BILLING CODE 4210-67-P